DEPARTMENT OF DEFENSE

Office of the Secretary

Announcement of Federal Funding Opportunity (FFO)

AGENCY: Office of Economic Adjustment (OEA), Department of Defense (DoD).

ACTION: Notice.

SUMMARY: This notice announces a one-time opportunity to obtain funding from the Office of Economic Adjustment (OEA) for construction of Transportation Infrastructure Improvements associated with medical facilities related to recommendations of the 2005 Defense Base Closure and Realignment Commission. This notice includes proposal requirements, the deadline for submitting proposals, and the criteria that will be used to select proposals. However, because this is a new one-time program, this notice also requests comments on the proposed selection criteria for these grants, as provided in Section V, paragraph 1, of this notice. OEA will consider and respond to comments in a Federal Register supplemental notice on or about September 9, 2011, which may revise some elements of this notice. Awards may be provided under this notice directly by OEA to a state or local governmental entity, or funds may be transferred to another Federal agency for award on behalf of a state or local government.

DATES: A pre-proposal teleconference will be held on Tuesday, August 9, 2011, at 3 p.m. EDT to review the goals and objectives of this funding opportunity and answer questions from interested respondents. Comments on the proposal selection criteria provided in Section V, paragraph 1 of this notice must be received by OEA not later than August 19, 2011. All such comments must be in writing. OEA will publish a supplementary notice in the Federal Register on or about September 9, 2011, addressing comments received. Complete proposals for Transportation Infrastructure Improvement construction grants must be received by OEA by October 7, 2011 (the “Proposal Deadline”). OEA will evaluate all proposals and announce the projects that have been selected for submission of a grant application within 30 days after the Proposal Deadline.

ADDRESSES: Comments on the proposal selection criteria must be submitted separately from proposals. Comments and proposals must be submitted by their respective due dates identified in the DATES section and must be submitted electronically to OEA by the following method:

E-mail: FFOsubmit@wso.whs.mil. Include either “Transportation Infrastructure Comments” or “Transportation Infrastructure Proposal” on the subject line of the message and request confirmation that your submission was received. OEA is not responsible for submissions unless OEA confirms receipt.

For the teleconference number and passcode for the teleconference on August 9, interested respondents should contact OEA at (703) 604-6020 or david.witschi@wso.whs.mil.

FOR FURTHER INFORMATION CONTACT: David F. Witschi, Associate Director, OEA, telephone: (703) 604-6020, e-mail: david.witschi@wso.whs.mil. mailto:david.larson@wso.whs.mil

SUPPLEMENTARY INFORMATION: Federal Funding Opportunity Title: Transportation Infrastructure Improvements associated with medical facilities related to recommendations of the 2005 Defense Base Closure and Realignment Commission.

Announcement Type: Federal Funding Opportunity.

Catalog of Federal Domestic Assistance (CFDA) Number: 12.600.

I. Funding Opportunity Description

OEA, a DoD Field Activity, is authorized by Section 8110 of Public Law 112-10, the Department of Defense and Full-Year Continuing Appropriations Act, 2011, to provide up to $300 million “for transportation infrastructure improvements associated with medical facilities related to recommendations of the Defense Base Closure and Realignment Commission.”

II. Award Information

OEA is accepting proposals for grant awards for construction of Transportation Infrastructure Improvements associated with medical facilities related to recommendations of the 2005 Defense Base Closure and Realignment Commission. Proposals will be evaluated by a panel against the selection criteria provided in Section V, paragraph 1 of this notice. These criteria may be further amended and the deadline for submission of proposals may be extended by OEA in a supplementary notice to be published in the Federal Register on or about September 9, 2011. OEA expects to invite successful respondents to complete full applications for funding following its determination of eligible respondents and review of proposals. To receive an award, an eligible respondent must submit both a successful proposal and an acceptable grant application. Individual proposals exceeding $100 million will be accepted for review, however, OEA encourages applicants to submit multiple smaller projects, provided each such project will result in complete and useful project. The final amount of each award will be determined by OEA based on the recommendation of the evaluation panel, subject to the availability of funds under this announcement. Awards may pay for up to 100 percent of a construction project's cost and may supplement, but cannot supplant, other available fund sources. The total amount of funds available for awards may be reduced by amounts required to reimburse costs for program oversight and administrative services secured from non-DoD Federal agencies. Project cost overruns are the responsibility of the recipient. OEA reserves the right to cancel an award for non-performance. Funds recovered, or unneeded after a project is completed, may be made available for other projects. Awards are subject to compliance with the National Environmental Policy Act (NEPA), and applicants are responsible for providing the information required to satisfy NEPA and the Council on Environmental Quality NEPA regulations.

III. Eligibility Information

States, local governments, transit agencies, transit authorities, and political subdivisions of State or local governments are eligible to apply for these funds.

For the purposes of this funding, DoD has determined that patient access to medical care is the most important need to be addressed. To be considered, a construction project must address a transportation issue associated with a medical facility at an installation identified as a receiving location for patient care functions in a 2005 Defense Base Closure and Realignment Commission recommendation.

Eligible projects must be designed to construct real property improvements that can include, but are not limited to, highway or road projects, mass transit, pedestrian access, bicycle access, and any other types of public transportation infrastructure related to a recommendation of the 2005 Defense Base Closure and Realignment Commission. Eligible activities include, but are not limited to, project administration, preliminary and final engineering and design, inspection, environmental compliance, land acquisition, construction, utilities, and contingency costs required to implement the project.

Proposals submitted by eligible applicants that meet the aforementioned threshold condition will be ranked by a panel against the selection criteria provided in Section V, paragraph 1 of this notice. The highest ranking proposals will be invited to submit formal applications, and grant awards will be made to successful applicants until the available funds are exhausted.

IV. Application and Submission Information

Each interested respondent must submit a complete proposal not later than the Proposal Deadline date (see DATES and ADDRESSES). A proposal may not exceed 20 pages (single-sided, and including all maps, drawings and attachments) and shall include the following information:

A. Point of Contact: Name, phone number, e-mail address, and organization address of the respondent's primary point of contact;

B. Existing or Projected Transportation Infrastructure Issue: A summary of the transportation issue the proposed construction project will address, including how the transportation issue impedes the provision of care, i.e., the military medical mission at a medical facility at an installation identified as a receiving location for patient care functions in a 2005 Defense Base Closure and Realignment Commission recommendation, expressed in terms of accepted and appropriate transportation planning and assessment techniques;

C. Project Description: A description of the proposed transportation infrastructure construction project, including an explanation how the project addresses the transportation issue;

D. Project Engineering Information: A demonstration of the technical feasibility of the construction project;

E. Project Parties: Identification of other parties involved in the project;

F. Grant Funds and other Sources of Funds: An overview of all funding sources, including the funds requested under this notice and financial commitments for other Federal and non-Federal funds needed to complete the project, and documentation demonstrating that the requested funds do not supplant other available funds;

G. Uses of Construction Project Funds: The uses of project funding, including a total project cost estimate with major cost elements broken out for project administration, preliminary and final engineering and design, inspection, environmental compliance, land acquisition, construction, utilities, and contingency;

H. Project Schedule: A sufficiently detailed project schedule, including milestones such as preliminary/final design, environmental compliance, land acquisition if needed, and construction, demonstrating that the project can be designed and begin construction quickly upon receipt of a grant and that the grant funds will be spent steadily and expeditiously once the project commences;

I. Environmental Approvals: Indicate the status (e.g., receipt or reasonably anticipated receipt) of all environmental approvals necessary for the construction project to proceed to construction on the timeline specified in the project schedule, including all Federal, State, and local requirements, and completion of an appropriate environmental impact analysis in accordance with NEPA;

J. State and Local Planning: The inclusion of the construction project in the relevant State, metropolitan, and local planning documents, or a certification from the appropriate agency (e.g., Metropolitan Planning Organization) that the project will be included in the relevant planning document;

K. Grants Management: Evidence of the intended recipient's ability and authority to manage grants;

L. Submitting Official: Documentation that the Submitting Official is authorized by the applicant to submit a proposal and subsequently apply for assistance.

OEA reserves the right to ask any respondent to supplement the data in its proposal, but expects proposals to be complete upon submission. To the extent practicable, OEA encourages respondents to provide data and evidence of all project merits in a form that is publicly available or verifiable.

Proposals must be submitted electronically to: Director, OEA, using the electronic address described in ADDRESSES.

V. Application Review Information

1. Selection Criteria—Upon validating the eligibility of the interested respondent to apply for assistance, an evaluation panel, designated by OEA, evaluates proposal content conforming to this notice as the basis for inviting a formal grant application. The proposed selection criteria, with relative weights, are:

(a) The extent to which the transportation issue impedes the provision of care, i.e., the military medical mission (e.g., the greater the number of patients, patient visitors and patient care workers impacted, the more serious the consequences to patients, etc., the higher the score), 25%;

(b) The magnitude (e.g. overall number of people affected, degree of failure, etc.) of the transportation issue that affects the military medical facility, expressed in terms of accepted and appropriate transportation planning and assessment techniques (the greater the magnitude of the issue, the higher the score), 25%;

(c) The applicant's ability to execute the proposed project, including the extent of other funding for the project and the ability to meet project timelines and budgets, acquire site control, permits or concurrences of affected parties, etc. (the greater the demonstration of the applicant's ability, the greater the score), 25%; and

(d) The extent to which the proposed construction project resolves the transportation issue (the more the project does to resolve the transportation issue, the higher the score), 25%.

Comments on the above selection criteria that are received by OEA not later than August 19, 2011, will be considered, and changes to these selection criteria, if any, will be announced in the Federal Register on or about September 9, 2011.

2. Review and Selection Process—The composition of the evaluation panel, to include other Federal agency staff with technical proficiencies and relevant experience, will be finalized after the Proposal Deadline, based on the number and nature of proposals received. The panel will rank all proposals against the Selection Criteria, and make recommendations to the Director, OEA. Panel members will be subject to a non-disclosure agreement and be expected to keep the review of these proposals confidential until released from the non-disclosure agreement by OEA.

OEA will notify each respondent within 30 days of the Proposal Deadline whether the respondent's proposal:

• Was successful and invite the successful respondent to submit a grant application directly to OEA. OEA will assign a Project Manager to advise and assist successful respondents in the completion of the grant application;

• Was unsuccessful and state the reasons why; or

• Remains under consideration pending the receipt of additional information which OEA will identify.

VI. Award Administration Information

1. Award Notices—A successful applicant (Grantee) will be invited to complete an eGrant application and receive a notice of award in the form of a Grant Agreement, signed by the Director, OEA (Grantor), on behalf of DoD. The Grant Agreement will be transmitted electronically. OEA reserves the right to transfer funds to another Federal agency for award on behalf of a state or local government, when OEA determines that it is in the best interests of the Government to do so.

2. Administrative and National Policy Requirements—The Grantee and any consultant/contractor operating under the terms of a grant shall comply with all Federal, State, and local laws applicable to its activities including the following: National Environmental Policy Act; National Historic Preservation Act; 32 CFR Part 33, “Uniform Administrative Requirements for Grants and Cooperative Agreements to State and Local Governments;” OMB Circulars A-87, “Cost Principles for State and Local Governments” and the revised A-133, “Audits of States, Local Governments and Non-Profit Organizations;” 32 CFR Part 25, “Government-wide Debarment and Suspension (Non-procurement);” 32 CFR Part 26,”Drug-free Workplace;” and 32 CFR Part 28, “New Restrictions on Lobbying (Grants).”

3. Reporting—OEA requires interim performance reports and one final performance report for each award. The performance reports will contain information on the following:

• A comparison of actual accomplishments to the objectives established for the reporting period;

• Reasons for slippage and proposed plan to mitigate;

• Additional pertinent information when appropriate;

• A comparison of actual and projected expenditures for the period;

• The amount of awarded funds on hand at the beginning and end of the reporting period.

The final performance report must contain a summary of activities for the entire award period. An SF 425, “Financial Status Report,” must be submitted to OEA within ninety (90) days after the end date of the award. Any grant funds actually advanced and not needed for grant purposes shall be returned immediately to the Office of Economic Adjustment.

OEA will provide a schedule for reporting periods and report due dates in the Award Agreement.

VII. Agency Contacts

For further information, to answer questions, or for help with problems, contact: David F. Witschi, Associate Director, OEA, telephone: (703) 604-6020, e-mail: david.witschi@wso.whs.mil mailto:david.larson@wso.whs.mil or regular mail at 400 Army Navy Drive, Suite 200, Arlington, VA 22202-4704.

VIII. Other Information

The OEA Internet address is http://www.oea.gov.

Dated: July 15, 2011.
Aaron Siegel,
Alternate OSD Federal Register Liaison Officer, Department of Defense.

[FR Doc. 2011-18400 Filed 7-20-11; 8:45 am]

BILLING CODE 5001-06-P